Title 3—

The President

Proclamation 7952 of November 2, 2005

National Adoption Month, 2005

By the President of the United States of America

A Proclamation

All children deserve strong families with mothers and fathers who are there to protect and love them. Every year, thousands of Americans extend the gift of family to a child through adoption. During National Adoption Month, we recognize the compassion of adoptive and foster families and renew our pledge to finding loving and stable homes for children in need.

Many of our citizens have revealed the good heart of America by opening their homes to children through adoption. We are grateful to every family who provides a safe, nurturing environment for their adopted children. Last year, an estimated 51,000 children were adopted from our Nation's foster care system, and tens of thousands more were adopted through private agencies and from overseas. Today, more than 118,000 children remain in foster care in the United States awaiting adoption. On November 19, National Adoption Day, thousands of these children will celebrate the finalization of their adoptions and go to their new homes, secure in the love of families they can now call their own.

My Administration remains committed to encouraging adoption. This year, 24 States, the District of Columbia, and the Commonwealth of Puerto Rico were recognized through our Adoption Incentives Program for their efforts to enhance their adoption and child welfare programs. These efforts have contributed to an increase in adoptions from 28,000 per year in 1996 to an estimated 51,000 in 2004. In addition, the AdoptUSKids initiative, which includes public service announcements in English and Spanish and a website, www.AdoptUSKids.org, has helped place more than 5,000 children in permanent homes over the last 3 years.

As we observe National Adoption Month, we recognize the many caring families who have made a difference in a child's life through adoption. By giving these children the love, guidance, and support they need to grow, adoptive and foster families play a vital role in helping the next generation of Americans achieve their dreams.

NOW, THEREFORE, I, GEORGE W. BUSH, President of the United States of America, by virtue of the authority vested in me by the Constitution and laws of the United States, do hereby proclaim November 2005 as National Adoption Month. I call on all Americans to observe this month with appropriate programs and activities to honor adoptive families and to participate in efforts to find permanent homes for waiting children.

IN WITNESS WHEREOF, I have hereunto set my hand this second day of November, in the year of our Lord two thousand five, and of the Independence of the United States of America the two hundred and thirtieth.

B

[FR Doc. 05-22201

Filed 11-3-05; 10:58 am]

Billing code 3195-01-P